DEPARTMENT OF JUSTICE

Antitrust Division

United States v. Microsoft Corporation; Public Comments

Correction

In notice document 02-5355 beginning on page 23654 in the issue of Friday, May 3, 2002, make the following correction:

On page 30305, third column, second line from the bottom, the file date “5-3-02” should read “5-2-02”.

[FR Doc. C2-5355 Filed 5-3-02; 8:45 am]

BILLING CODE 1505-01-D